DEPARTMENT OF ENERGY

Federal Energy Regulatory Commission

[Project Nos. 14276-001; AD13-9-000]

Free Flow Power Project 92, LLC; Notice of Intent To File License Application, Filing of Pre-Application Document, and Approving Use of the Two-Year Licensing Process

a. Type of Filing: Notice of Intent to File License Application and Request to Use the Two-Year Licensing Process.

b. Project No.: 14276-001.

c. Date Filed: May 5, 2014.

d. Submitted By: Free Flow Power Project 92, LLC (FFP).

e. Name of Project: Kentucky River Lock & Dam No. 11 Hydroelectric Project.

f. Location: On the Kentucky River, in Estill and Madison Counties, Kentucky. No federal lands are occupied by the project works or located within the project boundary.

g. Filed Pursuant to: 18 CFR part 5 of the Commission's regulations and Hydropower Regulatory Efficiency Act of 2013.

h. Potential Applicant Contact: Dan Lissner, Free Flow Power Corporation, 239 Causeway Street, Suite 300, Boston, MA 02114; (978) 252-7111; email—dlissner@free-flow-power.com.

i. FERC Contact: Sarah Salazar at (202) 502-6863; or email at sarah.salazar@ferc.gov.

j. On May 5, 2014, FFP filed a notice of intent to file an original license application, a pre-application document, and a request to be selected as a pilot project to test a two-year licensing process, pursuant to the requirements identified in the Commission's January 6, 2014 Notice. The Commission provided public notice of the request on June 5, 2014. In a letter dated August 4, 2014, the Director of the Office of Energy Projects approved FFP's request to use the proposed two-year licensing process.

k. Cooperating agencies: Federal, state, local, and tribal agencies with jurisdiction and/or special expertise with respect to environmental issues that wish to cooperate in the preparation of the environmental document should file a request to do so by September 3, 2014. The Commission strongly encourages electronic filing. Please file your request using the Commission's eFiling system at http://www.ferc.gov/docs-filing/efiling.asp. In lieu of electronic filing, please send a paper copy to: Secretary, Federal Energy Regulatory Commission, 888 First Street NE., Washington, DC 20426. Your filing must include on the first page, the project name (Kentucky River Lock & Dam No. 11 Hydroelectric Project) and number (P-14276-001), and bear the heading: “Request to be a Cooperating Agency.”

Cooperating agencies should note the Commission's policy that agencies that cooperate in the preparation of the environmental document cannot also intervene. See 94 FERC ¶ 61,076 (2001).

l. With this notice, we are initiating informal consultation with the U.S. Fish and Wildlife Service and/or NOAA Fisheries under section 7 of the Endangered Species Act and the joint agency regulations thereunder at 50 CFR, part 402; and NOAA Fisheries under section 305(b) of the Magnuson-Stevens Fishery Conservation and Management Act and implementing regulations at 50 CFR 600.920. We are also initiating consultation with the Kentucky State Historic Preservation Officer, as required by section 106, National Historical Preservation Act, and the implementing regulations of the Advisory Council on Historic Preservation at 36 CFR 800.2.

m. With this notice, we are designating FFP as the Commission's non-federal representative for carrying out informal consultation pursuant to section 7 of the Endangered Species Act and section 305(b) of the Magnuson-Stevens Fishery Conservation and Management Act; and consultation pursuant to section 106 of the National Historic Preservation Act.

n. Register online at http://www.ferc.gov/docs-filing/esubscription.asp to be notified via email of new filing and issuances related to this or other pending projects. For assistance, contact FERC Online Support.

Dated: August 4, 2014.
Kimberly D. Bose,
Secretary.

[FR Doc. 2014-18885 Filed 8-8-14; 8:45 am]

BILLING CODE 6717-01-P